DEPARTMENT OF COMMERCE

National Oceanic and Atmospheric Administration

[I.D. 020201B]

Endangered Species; Permits

AGENCY: National Marine Fisheries Service (NMFS), National Oceanic and Atmospheric Administration (NOAA), Commerce.

ACTION: Receipt of application to modify permits (1254); issuance of permits (1268, 1209, 1251).

SUMMARY: Notice is hereby given of the following actions regarding permits for takes of endangered and threatened species for the purposes of scientific research and/or enhancement: NMFS has received an application for permit modification from Mr. Martin Daley, Dynegy Northeast Generation (Dynegy) (1254); NMFS has issued permit 1268 to Mr. James Anderson, of National Aquarium in Baltimore (NAB) (1268); NMFS has issued permit 1251 to Mr. Steven Fields, of Magnolia Springs State Park - GADNR (GADNR) (1251), NMFS has issued permit 1209 to Mr. Ken Alfieri, of Cypress Gardens (CG) (1209).

DATES: Comments or requests for a public hearing on any of the new applications or modification requests must be received at the appropriate address or fax number no later than 5 p.m. eastern standard time on March 12, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

For permits 1254, 1209, 1251, 1268: Office of Protected Resources, Endangered Species Division, F/PR3, 1315 East-West Highway, Silver Spring, MD 20910 (ph: 301-713-1401, fax: 301-713-0376).

FOR FURTHER INFORMATION CONTACT: Terri Jordan, Silver Spring, MD (phone: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species is covered in this notice:

Fish

Shortnose sturgeon (Acipenser brevirostrum)

Modification Requests Received

Permit 1254: The applicant currently possesses a scientific research permit to conduct a monitoring study as part of an incidental take permit for the operation of the Roseton and Danskammer Point power plants. The applicant will be collecting larvae, juvenile and adult shortnose sturgeon in various location in the Hudson River between the estuary and River mile 65. On January 30, 2001, NMFS was notified that Dynegy had purchased the two power plants from Hudson Central Gas and Electric Company(HCGE) and current co-permittee on permit 1254, and requesting that HCGE be removed from the permit as a holder.

Permits Issued

Permit 1209

Notice was published on March 25, 1999 (64 FR 14432) that Mr. Ken Alfieri, of Cypress Gardens applied for an enhancement permit (1209). The aquarium proposes to maintain a population of up to eight (8) juvenile shortnose sturgeon in a captive environment for educational purposes. The sturgeon will be captive sturgeon received from the USFWS Bear's Bluff hatchery and have been classified as “non-releasable” by NMFS. In addition the fish will be placed on display, incidental to the research, for public education purposes. Permit 1209 was issued on January 26, 2001, authorizing take of listed species. Permit 1209 expires January 31, 2006.

Permit 1251

Notice was published on October 30, 2000 (65 FR 64685) that Mr. Steven Fields, of Magnolia Springs State Park - GADNR, applied for an enhancement permit (1251). The applicant requests an enhancement permit to maintain two five-year old shortnose sturgeon in captivity for educational purposes. The applicant currently possesses two adult shortnose sturgeon received from the US Fish and Wildlife Service hatchery at Bears Bluff, South Carolina in February 1997 under scientific research permit #986. Permit #986 expired on December 31, 2000 and the permit holder did not renew the enhancement aspects of permit 986. Permit 1251 was issued on January 26, 2001, authorizing take of listed species. Permit 1251 expires January 31, 2006.

Permit 1268

Notice was published on November 2, 2000 (65 FR 65840) that Mr. James Anderson, of National Aquarium in Baltimore applied for an enhancement permit (1268). The applicant requested a five year permit to continue to maintain one (1) adult shortnose sturgeon in captivity for enhancement purposes. The applicant currently possesses an adult shortnose sturgeon received from the US Fish and Wildlife Service hatchery at Bears Bluff, South Carolina in February 1997 under scientific research permit 986. Permit 986 expired on December 31, 2000 and the permit holder did not renew the enhancement aspects of permit 986. As a direct result, the National Aquarium in Baltimore is applying for an individual permit to continue maintenance of this fish. Permit 1268 was issued on January 26, 2001, authorizing take of listed species. Permit 1268 expires January 31, 2006.

Dated: February 2, 2001.
Phil Williams,
Acting Chief, Endangered Species Division, Office of Protected Resources, National Marine Fisheries Service.

[FR Doc. 01-3277 Filed 2-7-01; 8:45 am]

BILLING CODE 3510-22-S